DEPARTMENT OF COMMERCE

National Oceanic and Atmospheric Administration

[Docket No. 10041486-0186-01]

Notice of Web Site Publication for the Climate Program Office

AGENCY: Climate Program Office (CPO), Office of Oceanic and Atmospheric Research (OAR), National Oceanic and Atmospheric Administration (NOAA), Commerce.

ACTION: Notice.

SUMMARY: The Climate Program Office publishes this notice to announce the availability of information pertaining to an upcoming Climate Program Office solicitation of grant proposals on its Web site at http://www.climate.noaa.gov.

FOR FURTHER INFORMATION CONTACT: Eric Locklear; Chief, Administrative Services Division, Climate Program Office; (301) 734-1236.

SUPPLEMENTARY INFORMATION: Detailed information is available on the Climate Program Office Web site pertaining to the CPO's research strategies, objectives, and priorities. The Web site also provides important information regarding a solicitation for Letters of Intent for grant proposals to be awarded in FY 2011. The purpose of a Letter of Intent is for the Climate Program Office to provide potential applicants with feedback on the relevance of their proposed projects prior to the submission of a full proposal. Please see the Web site for further information on the format and content of the Letter of Intent. Letters of Intent are due to the CPO by 5 p.m. EST on May 26, 2010.

While it is in the best interest of an applicant to submit a Letter of Intent, it is optional. Applicants who do not submit a Letter of Intent are still eligible to prepare and submit full applications after the publication of the Notice of Funding Availability and release of the associated Federal Funding Opportunity announcement.

Dated: April 22, 2010.
Mark E. Brown,
Chief Financial Officer/Chief Administrative Officer, Office of Oceanic and Atmospheric Research, National Oceanic and Atmospheric Administration.

[FR Doc. 2010-9765 Filed 4-27-10; 8:45 am]

BILLING CODE 3510-KB-P